SECURITIES AND EXCHANGE COMMISSION

[Release Nos. 33-8975; 34-58747; File No. 4-573]

SEC Study of Mark to Market Accounting

AGENCY: Securities and Exchange Commission.

ACTION: Request for comment.

SUMMARY: The Securities and Exchange Commission is requesting public comment related to the study to be conducted by the Commission under the Emergency Economic Stabilization Act of 2008 of “mark-to-market” accounting applicable to financial institutions, including depository institutions.

DATES: Comments should be received on or before November 13, 2008.

ADDRESSES: Comments may be submitted by any of the following methods:

Electronic Comments

• Use the Commission's Internet comment form (http://www.sec.gov/rules/other.shtml); or

• Send an e-mail message to rule-comments@sec.gov. Please include File Number 4-573 on the subject line.

Paper Comments

• Send paper comments in triplicate to Florence E. Harmon, Acting Secretary, Securities and Exchange Commission, 100 F Street, NE., Washington, DC 20549-1090.

All submissions should refer to File No. 4-573. This file number should be included on the subject line if e-mail is used. To help us process and review your comments more efficiently, please use only one method. The Commission will post all comments on its Internet Web site (http://www.sec.gov/rules/other.shtml). Comments are also available for public inspection and copying in the Commission's Public Reference Room, 100 F Street, NE., Washington, DC 20549, on official business days between the hours of 10 a.m. and 3 p.m. All comments received will be posted without change; we do not edit personal identifying information from submissions. You should submit only information that you wish to make available publicly.

FOR FURTHER INFORMATION CONTACT: Jenifer Minke-Girard, Senior Associate Chief Accountant, at (202) 551-5300, Office of the Chief Accountant, Securities and Exchange Commission, 100 F Street, NE., Washington, DC 20549-6561.

SUPPLEMENTARY INFORMATION: In connection with the study to be conducted by the Securities and Exchange Commission (“Commission”) under the Emergency Economic Stabilization Act of 2008 (the “Act”) ¹ of “mark-to-market” accounting applicable to financial institutions, including depository institutions, the Commission welcomes public comments on the issues, point-of-view, research and opinions that the Commission's staff should consider in conducting the study.

¹ H.R. 1424.

The Act, which was enacted and signed by the President on October 3, 2008, requires the Commission to conduct a study of “mark-to-market” accounting and submit a report to Congress with the findings and determinations within 90 days. Specifically Section 133 of the Act provides as follows:

Study on Mark-to-Market Accounting

(a) STUDY.—The Securities and Exchange Commission, in consultation with the Board [of Governors of the Federal Reserve System] and the Secretary [of the Treasury], shall conduct a study on mark-to-market accounting standards as provided in Statement Number 157 of the Financial Accounting Standards Board, as such standards are applicable to financial institutions, including depository institutions. Such a study shall consider at a minimum—

(1) The effects of such accounting standards on a financial institution's balance sheet;

(2) The impacts of such accounting on bank failures in 2008;

(3) The impact of such standards on the quality of financial information available to investors;

(4) The process used by the Financial Accounting Standards Board in developing accounting standards;

(5) The advisability and feasibility of modifications to such standards; and

(6) Alternative accounting standards to those provided in such Statement Number 157.

(b) REPORT.—The Securities and Exchange Commission shall submit to Congress a report of such study before the end of the 90-day period beginning on the date of the enactment of this Act containing the findings and determinations of the Commission, including such administrative and legislative recommendations as the Commission determines appropriate.

All interested parties are invited to submit their views, in writing, on any or all of the subjects identified, whether subjects in addition to those identified should be included in the study for any reason or on any other matter relating to the current use of fair value accounting (including mark-to-market) in the U.S. financial reporting system that should be considered.

Dated: October 8, 2008.
By the Commission.
Florence E. Harmon,
Acting Secretary.

[FR Doc. E8-24245 Filed 10-10-08; 8:45 am]

BILLING CODE 8011-01-P